ENVIRONMENTAL PROTECTION AGENCY

40 CFR Parts 52 and 81

[EPA-R09-OAR-2024-0611; FRL-12521-01-R9]

Air Plan Approval; California; San Joaquin Valley 1-Hour Ozone Area; Maintenance Plan and Redesignation Request

AGENCY: Environmental Protection Agency (EPA).

ACTION: Proposed rule.

SUMMARY: The Environmental Protection Agency (EPA) is proposing to approve the “2023 Maintenance Plan and Redesignation Request for the Revoked 1-Hour Ozone Standard” (“San Joaquin Valley Maintenance Plan” or “Plan”) as a revision to the state implementation plan (SIP) for the State of California. The San Joaquin Valley Maintenance Plan includes, among other elements, an emissions inventory consistent with attainment and contingency provisions. The EPA is also proposing to find that the State of California's request to redesignate the San Joaquin Valley area from nonattainment to attainment for the revoked 1979 1-hour national ambient air quality standard (NAAQS or “standard”) for ozone (“1979 ozone NAAQS,” “1-hour ozone NAAQS,” or “1-hour ozone standard”) meets all the Clean Air Act (CAA or “the Act”) criteria for redesignation. Therefore, the EPA is proposing to terminate all anti-backsliding obligations for the San Joaquin Valley area for the revoked 1-hour ozone NAAQS.

DATES: Written comments must arrive on or before July 23, 2025.

ADDRESSES: Submit your comments, identified by Docket ID No. EPA-R09-OAR-2024-0611at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Andrew Ledezma, Air Planning Section (AIR 2-1), EPA Region IX, 75 Hawthorne Street, San Francisco, CA 94105, (415) 972-3985, or by email at Ledezma.Andrew@epa.gov.

SUPPLEMENTARY INFORMATION: Throughout this document, “we,” “us,” and “our” refer to the EPA.

Table of Contents

I. Background

A. The 1979 Ozone National Ambient Air Quality Standards

B. The San Joaquin Valley Area and Regulatory Actions

C. CAA and Regulatory Requirements for Redesignations and Maintenance Plans

II. Submissions from the State of California to Redesignate the San Joaquin Valley Area to Attainment of the 1979 Ozone NAAQS

A. Summary of State Submissions

B. CAA Procedural Requirements for Adoption and Submission of SIP Revisions

III. Evaluation of the Redesignation Criteria for the San Joaquin Valley Area

A. Evaluation of Whether the San Joaquin Valley Area Has Attained the 1979 1-Hour Ozone NAAQS

B. The Area Must Have a Fully Approved SIP Meeting the Requirements Applicable for the Purposes of Redesignation Under Section 110 and Part D of the CAA

C. The Area Must Show that the Improvement in Air Quality is Due to Permanent and Enforceable Emissions Reductions

D. The Area Must Have a Fully Approved Maintenance Plan Under CAA Section 175A

IV. Proposed Action and Request for Public Comment

V. Statutory and Executive Order Review

I. Background

A. The 1979 Ozone National Ambient Air Quality Standards

The EPA sets the NAAQS for certain ambient air pollutants at levels required to protect human health and the environment. Ground-level ozone pollution is formed from the reaction of volatile organic compounds (VOCs) and oxides of nitrogen (NOX) in the presence of sunlight.¹ These two pollutants, referred to as ozone precursors, are emitted by many types of sources, including on- and off-road motor vehicles and engines, power plants and industrial facilities, and smaller area sources such as lawn and garden equipment and paints.

¹ The State of California refers to reactive organic gases (ROG) in some of its ozone-related SIP submissions. As a practical matter, ROG and VOC refer to the same set of chemical constituents, and for the sake of simplicity, we refer to this set of gases as VOC in this proposed rule.

Scientific evidence indicates that adverse public health effects occur following exposure to ozone, particularly in children and adults with lung disease. Breathing air containing ozone can reduce lung function and inflame airways, which can increase respiratory symptoms and aggravate asthma or other lung diseases.²

² “Fact Sheet—Final Revisions to the National Ambient Air Quality Standards for Ozone,” dated March 2008.

Under section 109 of the CAA, the EPA promulgates NAAQS for pervasive air pollutants, such as ozone. Following promulgation of a new or revised NAAQS, the CAA requires the EPA to designate areas throughout the nation as either attaining or not attaining the standards.

On February 8, 1979, the EPA established primary and secondary NAAQS for ozone at 0.12 parts per million (ppm) averaged over a 1-hour period.³ On July 18, 1997, the EPA revised the primary and secondary standards for ozone to 0.08 ppm averaged over an 8-hour period (“1997 ozone NAAQS”).⁴ In 2004, the EPA published the 1997 ozone NAAQS designations and classifications ⁵ and a rule governing certain facets of implementation of the 1997 ozone NAAQS (“Phase 1 Rule”).⁶ The Phase 1 Rule established the revocation of the 1979 ozone NAAQS one year following the effective date of the designations for the 1997 ozone NAAQS and set anti-backsliding provisions for the transition from the 1-hour to the 1997 8-hour standard. Anti- backsliding provisions provide for controls that are not less stringent than the controls applicable to areas that were listed as nonattainment for the revoked ozone standards when the standards and designations were revoked.

³ See 44 FR 8202 (February 8, 1979).

⁴ See 62 FR 38856 (July 18, 1997).

⁵ 69 FR 23858 (April 30, 2004).

⁶ 69 FR 23951 (April 30, 2004).

The Phase 1 Rule and its subsequent revision did not include contingency measures, new source review (NSR) requirements, conformity determinations, or the section 185 fee program among the measures retained as 1-hour ozone standard anti-backsliding requirements.⁷ However, on December 23, 2006, the U.S. Court of Appeals for the District of Columbia Circuit determined that the EPA should not have excluded these requirements from its anti-backsliding requirements.⁸

⁷ See id. and 70 FR 30592, 30599 (May 26, 2005).

⁸ South Coast Air Quality Management District v. EPA, 472 F.3d 882 (D.C. Cir. 2006) reh'g denied 489 F.3d 1245 (D.C. Cir. 2007) (clarifying that the vacatur was limited to the issues on which the court granted the petitions for review) (“South Coast I”).

In 2015, the EPA revoked the 1997 ozone NAAQS, established anti-backsliding requirements for the revoked 1997 ozone NAAQS, and revised the anti-backsliding requirements for the revoked 1-hour ozone standard as a part of the final rule for implementing the 2008 ozone 8-hour NAAQS (“2008 NAAQS SIP Requirements Rule”).⁹ The EPA considered the South Coast I decision on the Phase 1 Rule in developing the 2008 NAAQS SIP Requirements Rule for the 2008 8-hour ozone standard (“2008 ozone NAAQS”).¹⁰

⁹ 40 CFR 51.1100-51.1119 and 80 FR 12264 (March 6, 2015).

¹⁰ The anti-backsliding requirements for the revoked 1979 and 1997 ozone NAAQS are listed in 40 CFR 51.1100(o). See 40 CFR 50.1105(a).

The 2008 NAAQS SIP Requirements Rule provided that an area will be subject to the anti-backsliding obligations for a revoked NAAQS until the EPA approves either (1) a redesignation to attainment for the area for the 2008 ozone NAAQS or (2) a “redesignation substitute” for a revoked NAAQS, which required an area to demonstrate that it had attained the revoked NAAQS due to permanent and enforceable measures and would maintain that standard for ten years.¹¹ In the 2008 NAAQS SIP Requirements Rule, the EPA created the redesignation substitute procedure because it believed it did not have the authority under the CAA to change the designations of areas under a revoked NAAQS but wanted to establish a means to terminate anti-backsliding requirements for an area that would otherwise be eligible for a redesignation had the standard not been revoked.¹² Though the EPA created the redesignation substitute based on the CAA section 107(d)(3)(E) redesignation criteria, the procedure did not require states to demonstrate satisfaction of all five criteria.

¹¹ 40 CFR 51.1105(b)(1).

¹² 80 FR 12264, 12304-05 (March 6, 2015).

On February 16, 2018, the U.S. Court of Appeals for the District of Columbia Circuit vacated certain parts of the 2008 NAAQS SIP Requirements Rule, including the redesignation substitute provision, based on the court's conclusion that those provisions were not consistent with CAA requirements.¹³ In South Coast II, the Court held that the redesignation substitute tool was not consistent with CAA requirements because it failed to satisfy all five of the statutory requirements set forth in CAA section 107(d)(3)(E), which governs redesignations from nonattainment to attainment.¹⁴

¹³ South Coast Air Quality Management District v. EPA, 882 F.3d 1138 (D.C. Cir. 2018) (“South Coast II”).

¹⁴ Id. at 1152.

B. The San Joaquin Valley Area and Regulatory Actions

The San Joaquin Valley 1979 ozone area encompasses over 23,000 square miles and includes eight counties: San Joaquin, Stanislaus, Merced, Madera, Fresno, Tulare, Kings, and Kern.¹⁵ The area is home to four million people and is one of the nation's leading agricultural regions. Stretching over 250 miles from north to south and averaging 80 miles wide, it is partially enclosed by the Coast Mountain range to the west, the Tehachapi Mountains to the south, and the Sierra Nevada range to the east. Under state law, the San Joaquin Valley Unified Air Pollution Control District (SJVUAPCD or the “District”) has primary responsibility for developing plans to provide for attainment of the NAAQS in this area. The District works cooperatively with the California Air Resources Board (CARB) in preparing attainment plans. Authority for regulating sources under state jurisdiction in the San Joaquin Valley is split under state law between the District, which generally has responsibility for regulating stationary and area sources, and CARB, which generally has responsibility for regulating mobile sources.

¹⁵ In 2001, the EPA approved a request to revise the boundary of the San Joaquin Valley to exclude eastern Kern County. 66 FR 56476 (November 8, 2001). For a precise description of the geographic boundaries of the San Joaquin Valley area, see 40 CFR 81.305.

The CAA, as amended in 1977, required states to submit SIP revisions for nonattainment areas that, among other requirements, provided for attainment of the 1979 ozone NAAQS no later than 1987; however, like many areas of the country, the San Joaquin Valley failed to attain the 1979 ozone NAAQS by 1987. In the 1990 CAA Amendments, Congress established a classification system for ozone nonattainment areas under which areas with more severe ozone problems were given a higher classification and more time to attain the standard but were subject to a greater number of, and more stringent, SIP requirements. The classifications include “Marginal,” “Moderate,” “Serious,” “Severe,” and “Extreme.” ¹⁶ Effective January 22, 1992, the EPA established the initial air quality designations for most areas in the United States for the 1979 ozone NAAQS.¹⁷ The EPA designated the San Joaquin Valley area as Serious nonattainment based on monitoring data from 1987 to 1989.¹⁸ Areas classified as Serious were required to attain the NAAQS by November 15, 1999.¹⁹ In response, in 1994, CARB submitted The California Ozone State Implementation Plan (“1994 California Ozone Plan”), a comprehensive ozone plan for the State of California that included a state strategy as well as certain regional ozone plans, such as the regional plan for the San Joaquin Valley. On January 8, 1997, the EPA approved the 1994 California Ozone Plan, which projected attainment by November 15, 1999.²⁰

¹⁶ See CAA section 181(a)(1).

¹⁷ 56 FR 56694 (November 6, 1991).

¹⁸ Id. at 56697.

¹⁹ CAA section 181(a)(1).

²⁰ 62 FR 1150 (January 8, 1997).

On November 8, 2001, the EPA found that the San Joaquin Valley area did not attain the 1979 ozone NAAQS by the November 15, 1999 deadline, and the San Joaquin Valley area was reclassified by operation of law as “Severe-15” ²¹ nonattainment based on monitoring data from 1997 to 1999.²² As a result, the State of California was required to submit a Severe area ozone nonattainment plan by May 31, 2002, that provided for attainment as expeditiously as practicable, but no later than November 15, 2005.

²¹ The CAA provides that Severe 1979 1-hour ozone nonattainment areas must have attained the NAAQS as expeditiously as practicable, but no later than 15 years after enactment of the 1990 CAA Amendments, or November 15, 2005. CAA section 181(a)(2) also establishes a “Severe-17” classification for areas with a 1988 ozone design value between 0.190 parts per million (ppm) and 0.280 ppm.

²² 66 FR 56476, 65 FR 37926 (June 19, 2000).

On April 16, 2004, the EPA granted a request by the State of California to voluntarily change the San Joaquin Valley nonattainment area's classification for the 1979 ozone NAAQS from Severe to Extreme and required the State to submit an Extreme area plan by November 15, 2004, that provided for attainment as expeditiously as practicable, but no later than November 15, 2010.²³ CARB submitted an Extreme area plan on November 15, 2004 (“2004 Ozone Plan”). CARB subsequently amended it and resubmitted it on March 6, 2006. On March 8, 2010, the EPA approved California's 2004 Ozone Plan as amended and clarified.²⁴ Our approval of the 2004 Ozone Plan was challenged, and the U.S. Court of Appeals for the Ninth Circuit remanded the approval of the plan to the EPA based on its conclusion that the EPA had not adequately considered and addressed the implications of recent emissions data (“Sierra Club”).²⁵ In response to the Sierra Club decision, the EPA withdrew its approval of the 2004 Ozone Plan.²⁶ Because of approvability concerns raised in the Sierra Club decision, CARB withdrew the plan effective at the time the EPA finalized its withdrawal of approval. Consequently, the EPA also issued a finding of failure to submit required SIP revisions to provide for attainment of the 1-hour ozone NAAQS in the San Joaquin Valley.

²³ 69 FR 20550 (April 16, 2004).

²⁴ 75 FR 10420 (March 8, 2010).

²⁵ Sierra Club v. EPA, 671 F.3d 955 (9th Cir. 2012). For further background on this court decision, see 77 FR 58078 (September 19, 2012).

²⁶ 77 FR 70376 (November 26, 2012).

Meanwhile, as noted in section I.A. of this document, in 1997, the EPA established an 8-hour ozone standard to replace the 1-hour ozone standard, and in 2004, the EPA designated the San Joaquin Valley as a Serious nonattainment area for the 1997 8-hour ozone standard.²⁷ In 2010, the EPA approved a request by CARB to reclassify the San Joaquin Valley as Extreme for the 1997 8-hour ozone standard.²⁸

²⁷ 69 FR 23858.

²⁸ 75 FR 24409 (May 5, 2010).

On December 30, 2011, the EPA determined that the San Joaquin Valley did not attain the 1-hour ozone standard by the November 15, 2010 attainment date based on monitoring data from 2008 to 2010.²⁹ In November 2012, the EPA established November 26, 2017, as the new attainment deadline for the San Joaquin Valley for the 1979 ozone NAAQS.³⁰

²⁹ 76 FR 82133 (December 30, 2011).

³⁰ 77 FR 70376. Application of the attainment date formulation in CAA section 172(a)(2) means that the state was required to submit a revised attainment plan for the 1-hour ozone standard as expeditiously as practicable, but no later than five years from the effective date of the findings of failure to submit, which in this case is no later than November 26, 2017.

On December 20, 2013, California submitted the 2013 Plan for the Revoked 1-Hour Standard (“2013 Ozone Plan”). On April 5, 2016, the EPA approved the following elements of the 2013 Ozone Plan: the base year and projected future year emissions inventories, reasonably available control measures (RACM) demonstration, rate of progress (ROP) demonstration, attainment demonstration, Clean Fuel for Boilers (CFB) rule adoption, vehicle miles traveled (VMT) offset requirement, and contingency measures for failure to meet ROP milestones for the area.³¹

³¹ 81 FR 19492 (April 5, 2016).

On July 18, 2016, the EPA determined that the San Joaquin Valley area attained the 1979 ozone NAAQS based on three years of complete, quality-assured, and certified data for the 2012-2014 time period, and we issued a “clean data determination.” ³² Citing 40 CFR 51.1118, the EPA also stated that, to the extent such requirements were not already fulfilled, the clean data determination would suspend requirements to submit attainment demonstrations and associated RACM, reasonable further progress plans, contingency measures for failure to attain or make reasonable progress, and other requirements related to attainment of the 1-hour ozone standard for so long as the area continues to attain the standard, or until such time as the area is redesignated as attainment for the current ozone NAAQS, or a redesignation substitute for the 1-hour ozone standard is approved, at which time the requirements no longer apply.³³

³² 81 FR 46608 (July 18, 2016).

³³ Id. at 46610-11. See also 81 FR 31206, 31211 (May 18, 2016). (At the time the EPA issued its clean data determination for the area, the redesignation substitute mechanism had not yet been vacated by the U.S. Court of Appeals for the District of Columbia Circuit in South Coast II.)

C. CAA and Regulatory Requirements for Redesignations and Maintenance Plans

The CAA establishes the criteria that must be met for the EPA to redesignate a nonattainment area to attainment for a given NAAQS. Specifically, section 107(d)(3)(E) sets forth the following criteria: (1) the EPA must determine that the area has attained the applicable NAAQS; (2) the EPA must have fully approved the applicable SIP for the area under CAA section 100(k); (3) the EPA must determine that the improvement in air quality is due to permanent and enforceable reductions in emissions; (4) the EPA must have fully approved a maintenance plan for the area as meeting the requirements of CAA section 175A; and, (5) the state must have met all requirements applicable to the area under section 110 and title I, part D, (“part D”) of the CAA. Section 110 identifies a comprehensive list of elements that must be included in SIPs, and part D establishes the SIP requirements for nonattainment areas. Part D is divided into six subparts. The generally applicable SIP requirements for nonattainment areas are found in subpart 1 of part D, and the ozone-specific SIP requirements are found in subpart 2 of part D. The EPA provided guidance on redesignations in a document titled “State Implementation Plans; General Preamble for the Implementation of Title I of the Clean Air Act Amendments of 1990,” published in the Federal Register on April 16, 1992,³⁴ and supplemented on April 28, 1992 (collectively referred to herein as the “General Preamble”).³⁵ The EPA issued additional guidance in two memoranda: a September 4, 1992 memorandum from John Calcagni, Director of the EPA's Air Quality Management Division in the Office of Air Quality Planning and Standards, titled “Procedures for Processing Requests to Redesignate Areas to Attainment” (referred to herein as the “Calcagni memo”) and a 1995 memorandum from Mary D. Nichols, titled “Part D New Source Review (part D NSR) Requirements for Areas Requesting Redesignation to Attainment” (“Nichols memo”).

³⁴ 57 FR 13498 (April 16, 1992).

³⁵ 57 FR 18070 (April 28, 1992).

The EPA's approval of a state's maintenance plan is one of the CAA prerequisites for redesignation of a nonattainment area to attainment under CAA section 107(d)(3)(E). Section 175A of the CAA provides the general framework for a state's maintenance plans. A state's initial 10-year maintenance plan must provide for maintenance of the NAAQS for at least 10 years after redesignation and include any additional control measures necessary to ensure such maintenance. In addition, maintenance plans must contain contingency provisions necessary to assure the prompt correction of a violation of the NAAQS during the maintenance period. At a minimum, these contingency provisions must include a requirement that a state will implement all control measures contained in the nonattainment SIP prior to redesignation. Because a state's maintenance plan submittals are SIP revisions, the EPA is obligated under CAA section 110(k) to approve them or disapprove them depending on whether they meet the applicable CAA requirements for such plans outlined above.

For the reasons described in section III of this proposal, the EPA is proposing to find that California's submittal meets all five criteria in CAA section 107(d)(3)(E) for the 1-hour ozone NAAQS. The EPA is also proposing to approve the San Joaquin Valley Maintenance Plan for the 1979 ozone NAAQS as consistent with CAA section 175A. Although CAA section 107(d)(3) applies explicitly only to revisions of area designations and the designations for this area have been revoked along with the NAAQS, the EPA's view is that, consistent with the U.S. Court of Appeals for the District of Columbia Circuit's findings in South Coast II, satisfaction of the statutory redesignation criteria permits the termination of any remaining anti-backsliding obligations for the San Joaquin Valley area as to the revoked 1979 ozone NAAQS. The EPA is therefore proposing to terminate the anti-backsliding obligations for the San Joaquin Valley area associated with the 1-hour ozone NAAQS and to revise the table in 40 CFR part 81 to reflect that the San Joaquin Valley area has attained the revoked 1979 ozone NAAQS and that all anti-backsliding obligations for that NAAQS are terminated.

II. Submissions From the State of California To Redesignate the San Joaquin Valley Area to Attainment for the 1979 Ozone NAAQS

A. Summary of State Submissions

On July 21, 2023, CARB submitted to the EPA its redesignation request and maintenance plan for the San Joaquin Valley area for the 1979 ozone NAAQS as a revision to the California SIP.³⁶ This document addresses all of the CAA section 107(d)(3)(E) redesignation criteria and includes the required maintenance plan elements. The San Joaquin Valley Maintenance Plan is organized into seven chapters and two appendices. The first appendix (Appendix A) provides the emissions inventory, and the second appendix (Appendix B) provides support for meteorological conditions affecting ozone levels in the San Joaquin Valley. On February 27, 2024, SJVUAPCD submitted information clarifying the contingency plan in section F.5 of the San Joaquin Valley Maintenance Plan; ³⁷ on July 1, 2024, CARB submitted information supplementing the emissions inventory in Appendix A; ³⁸ and on August 22, 2024, CARB submitted information amending the maintenance demonstration in section F.2 of the San Joaquin Valley Maintenance Plan.³⁹ Collectively, we refer to this as the “San Joaquin Valley Maintenance Plan” or “Plan.”

³⁶ Letter dated July 21, 2023, from Steven S. Cliff, Executive Officer, CARB, to Martha Guzman, Regional Administrator, EPA Region IX.

³⁷ Email dated February 27, 2024, from Emily Kneeland, SJVUAPCD, to Karina O'Connor, EPA, Subject: “Clarification for San Joaquin Valley 1-hr Ozone Maintenance Plan and Redesignation Request.”

³⁸ Email dated July 1, 2024, from Sylvia Vanderspek, CARB, to Andrew Ledezma, EPA, Subject: “RE: Follow-up 6/25/24 Meeting—1979 1-Hour RRMP EI Appendix.”

³⁹ Email dated August 22, 2024, from Sylvia Vanderspek, CARB, to Andrew Ledezma, EPA, Subject: “SIP Mobile Source Measure table.”

B. CAA Procedural Requirements for Adoption and Submission of SIP Revisions

CAA sections 110(a) and 110(l) require states to provide reasonable public notice and opportunity for public hearing prior to adoption and submission of a SIP or SIP revision. To meet these procedural requirements, every SIP submission should include evidence that the state provided adequate public notice and an opportunity for a public hearing, consistent with the EPA's implementing regulations in 40 CFR 51.102.

CARB's July 21, 2023 SIP submittal package includes documentation of the public process used by the District to adopt the San Joaquin Valley Maintenance Plan.⁴⁰ On May 16, 2023, SJVUAPCD released a draft version of the Plan for public review and published a notice of public meeting to be held on June 15, 2023, to consider adoption of the San Joaquin Valley Maintenance Plan. As documented in SJVUAPCD Resolution No. 2023-6-9, included in the SIP submittal package, the Governing Board of the SJVUAPCD adopted the San Joaquin Valley Maintenance Plan on June 15, 2023, following a public hearing.⁴¹ As evidenced by CARB Executive Order S-23-013, CARB adopted the San Joaquin Valley Maintenance Plan on July 19, 2023.⁴² Based on the documentation in the July 21, 2023 SIP submittal package, SJVUAPCD has satisfied the applicable statutory and regulatory requirements for reasonable public notice and hearing prior to adoption and submission of the Plan. Therefore, the submission of the San Joaquin Valley Maintenance Plan meets the procedural requirements for public notice and hearing in CAA sections 110(a) and 110(l) and in 40 CFR 51.102.

⁴⁰ In this package, CARB submitted a signed version of SJVUAPCD's “Notice of Public Hearing” to “Adopt 2023 Maintenance Plan and Redesignation Request for the Revoked 1-Hour Ozone Standard” published on the SJVUAPCD website on May 16, 2023.

⁴¹ Memorandum dated June 15, 2023, from Samir Sheikh, Executive Director/APCO, SJVUAPCD and Jonathan Klassen, Project Coordinator, SJVUAPCD, Subject: “Item Number 9: Adopt 2023 Maintenance Plan and Redesignation request for the Revoked 1-Hour Ozone Standard.”

⁴² CARB Executive Order S-23-013 titled, “Submittal of the San Joaquin Valley Air Pollution Control District 2023 Maintenance Plan and Redesignation Request for the Revoked 1-Hour Standard.”

On January 21, 2024, the San Joaquin Valley Maintenance Plan submittal became complete by operation of law pursuant to CAA section 110(k)(1)(B).

III. Evaluation of the Redesignation Criteria for the San Joaquin Valley Area ⁴³

⁴³ As noted, the statutory redesignation requirements do not directly apply to the EPA's evaluation because the San Joaquin Valley is no longer a nonattainment area; however, for purposes of the EPA's evaluation for this revoked NAAQS we look to those statutory criteria and the EPA's interpretations of and guidance for those criteria.

A. Evaluation of Whether the San Joaquin Valley Area Has Attained the 1979 1-Hour Ozone NAAQS

1. Statutory and Regulatory Requirements

Pursuant to section 107(d)(3)(E)(i) of the CAA, for a nonattainment area to be redesignated to attainment, the EPA must determine that the area has attained the relevant NAAQS. The EPA interprets this requirement to mean that the area must have an attaining design value based on the most recently available and quality-assured air quality monitoring data, collected in accordance with the requirements of 40 CFR part 58.⁴⁴ These requirements include quality assurance procedures for monitor operation and data handling, siting parameters for instruments or instrument probes, and minimum ambient air quality monitoring network requirements.⁴⁵ State, local, or tribal agencies that operate air monitoring sites in accordance with 40 CFR part 58 must enter the ambient air quality data from these sites in the EPA Air Quality System (AQS) database.⁴⁶ These monitoring agencies certify annually that these data are accurate to the best of their knowledge, taking into consideration the quality assurance findings.⁴⁷ Accordingly, the EPA relies primarily on AQS data when determining the attainment status of an area.

⁴⁴ 57 FR 13498, 13563.

⁴⁵ 40 CFR 58.2(a).

⁴⁶ 40 CFR 58.16(a). AQS is the EPA's national repository of ambient air quality data.

⁴⁷ 40 CFR 58.15(a).

In accordance with 40 CFR part 58 and 40 CFR part 50, appendix H, generally, the EPA's finding of attainment for the 1979 ozone NAAQS must be based upon complete, quality-assured, certified data gathered at eligible monitoring sites in the nonattainment area in accordance with 40 CFR part 58 and entered into AQS.⁴⁸ Under 40 CFR 50.9 and in accordance with part 50, appendix H, an area meets the 1979 ozone NAAQS when the expected number of days per calendar year with maximum hourly average concentrations above 0.12 ppm is equal to or less than 1, averaged over a three year period.⁴⁹ A daily maximum ozone value is considered valid if 75 percent of the hours from 9:01 a.m. to 9:00 p.m. were measured or if the highest hour is greater than the level of the standard.⁵⁰ A missing daily maximum ozone value may be assumed to be less than the level of the standard if the valid daily maxima on both the preceding day and the following day do not exceed 75 percent of the NAAQS.

⁴⁸ 40 CFR part 58 and 40 CFR part 50, appendix H.

⁴⁹ A violation occurs when the ambient ozone air quality monitoring data show greater than one (1.0) “expected number” of exceedances per year at any site in the area, when averaged over three consecutive calendar years. An “expected number” of exceedances is a statistical term that refers to an arithmetic average. An “expected number” of exceedances may be equivalent to the number of observed exceedances plus an increment that accounts for incomplete sampling. An exceedance occurs when the maximum hourly ozone concentration during any day exceeds 0.124 ppm. See 40 CFR part 50, appendix H.

⁵⁰ 40 CFR part 50, appendix H, § 3.0.

2. Monitoring Network Review, Quality Assurance, and Data Completeness

SJVUAPCD is the governmental agency with the authority and responsibilities under state law for collecting ambient air quality data in the San Joaquin Valley area. The ambient air monitoring network in the San Joaquin Valley area also includes air monitoring stations that are managed and operated by CARB and the National Park Service (NPS). As a result, SJVUAPCD submits annual monitoring network plans to the EPA.⁵¹ These plans document the status of SJVUAPCD's air monitoring network including the CARB and NPS air monitoring stations, as required under 40 CFR 58.10. The EPA reviews these annual network plans for compliance with the specific requirements in 40 CFR part 58. With respect to ozone, we have found that the annual network plans submitted by SJVUAPCD meet these requirements under 40 CFR part 58, including the minimum monitoring requirements.⁵² See Table 1 for a summary of air quality ozone monitors in the San Joaquin Valley area.⁵³

⁵¹ The docket for this action includes documentation of our review of SJVUAPCD's annual network plan.

⁵² See, e.g., “San Joaquin Valley Air Monitoring Network Plan for the Year 2024,” Table 8, “Ozone Monitoring Requirements for the Valley.”

⁵³ See San Joaquin Valley Maintenance Plan, Table 1.

Table 1—Summary of Ambient Air Quality Monitors in the San Joaquin Valley Area a b
AQS site ID | County | Site name
06-029-0007 | Kern | Edison.
06-029-0008 | Kern | Maricopa.
06-029-0014 | Kern | Bakersfield-California.
06-029-0232 | Kern | Oildale.
06-029-2012 | Kern | Bakersfield-Muni.
06-029-5002 | Kern | Arvin-Di Giorgio.
06-029-6001 | Kern | Shafter.
06-019-0007 | Fresno | Fresno-Drummond.
06-019-0011 | Fresno | Fresno-Garland.
06-019-0242 | Fresno | Fresno-Sierra Sky Park.
06-019-2009 | Fresno | Tranquility.
06-019-4001 | Fresno | Parlier.
06-019-5001 | Fresno | Clovis-Villa.
06-031-1004 | Kings | Hanford.
06-039-0004 | Madera | Madera-Pump Yard.
06-039-2010 | Madera | Madera-City.
06-047-0003 | Merced | Merced-Coffee.
06-099-0005 | Modesto | Modesto-14th Street.
06-099-0006 | Stanislaus | Turlock.
06-077-1003 | Stockton | Stockton-University Park.
06-077-3005 | San Joaquin | Tracy-Airport.
06-107-0009 | Tulare | Sequoia-Ash Mountain.
06-107-2003 | Tulare | Visalia-W. Ashland Ave.
06-107-2010 | Tulare | Porterville.
ᵃ CARB operates and certifies data for the Fresno-Garland (AQS ID: 06-019-0011), Edison (AQS ID: 06-029-0007), Bakersfield-California (AQS ID: 06-029-0014), Oildale (AQS ID: 06-029-0232), Arvin-Di Giorgio (AQS ID: 06-029-5002), Shafter (AQS ID: 06-029-6001), Stockton (AQS ID: 06-077-1003), Modesto-14th St. (AQS ID: 06-099-0005), and Visalia W. Ashland Ave (AQS ID: 06-107-2003) monitors.
ᵇ The National Park Service operates and certifies data for the Sequoia-Ash Mountain (AQS ID: 06-107-0009) monitor.

In accordance with 40 CFR 58.15, SJVUAPCD, CARB, and the NPS certify annually that the previous calendar year's ambient concentration and quality assurance data are completely submitted to AQS and that the ambient concentration data are accurate, taking into consideration the quality assurance findings.⁵⁴ Along with the certification letters, SJVUAPCD, CARB, and the NPS submit a summary of the precision and accuracy data for all ambient air quality data.⁵⁵ The EPA's evaluations of the relevant quality assurance data are reflected in the associated AQS certification evaluation and concurrence reports.⁵⁶ For the purposes of this proposal, we reviewed the data for the 2021-2023 period for completeness and determined that the ozone ambient concentration data collected in the San Joaquin Valley area met the completeness criterion at all ozone monitoring sites except for those specified in Table 2.⁵⁷

⁵⁴ We have included in our docket SJVUAPCD's annual data certifications for 2020, 2021, 2022 and 2023, for monitors operated by SJVUAPCD, CARB, and NPS. Annual data certification requirements can be found at 40 CFR 58.15.

⁵⁵ See 40 CFR 58.15(c).

⁵⁶ We have included in our docket SJVUAPCD's annual data certifications for 2020, 2021, 2022 and 2023, for monitors operated by SJVUAPCD, CARB, and NPS. Annual data certification requirements can be found at 40 CFR 58.15.

⁵⁷ Generally, a “complete” data set for determining attainment of the ozone standard is one that includes three years of data with an average percent of days with valid monitoring data greater than 90 percent with no single year less than 75 percent. See 40 CFR part 50, appendix I.

Finally, the EPA conducts regular technical systems audits (TSAs) where we review and inspect state and local ambient air monitoring programs to assess compliance with applicable regulations concerning the collection, analysis, validation, and reporting of ambient air quality data. For the purposes of this proposal, we reviewed the findings from EPA's 2022 TSAs of CARB and SJVUAPCD's ambient air monitoring programs.⁵⁸ The results of these TSAs do not preclude the EPA from determining that the area has attained the 1979 1-hour ozone NAAQS.

⁵⁸ Technical Systems Audit of the Ambient Air Monitoring Program California Air Resources Board, December 2021-August 2022; Final Report dated March 2024 (“2022 TSA”). The 2022 TSA is attached to its transmittal letter dated March 14, 2024, from Matthew Lakin, EPA Region IX, to Edie Chang, CARB.

To summarize, based on the EPA's review of the 2021-2023 certified data available in AQS, relevant monitoring network plans, certifications, quality assurance data, and the 2022 TSAs, we propose to find that the ozone data collected in the San Joaquin Valley area are suitable for determining whether the area has attained the 1979 1-hour ozone NAAQS.

3. Evaluation of Attainment

In 2016, the EPA determined that the San Joaquin Valley area attained the 1979 ozone NAAQS based on monitoring data from 2012-2014.⁵⁹ The San Joaquin Valley continues to attain the NAAQS. Table 2 shows the calculated 1979 1-hour ozone design values at all monitoring sites in the San Joaquin Valley area for the 2020-2022 and 2021-2023 periods.⁶⁰ The data show that all of the monitoring sites in the San Joaquin Valley area met the 1-hour ozone NAAQS in the 2020-2022 and 2021-2023 periods, based on the average expected exceedances at all monitoring sites being less than or equal to 1 exceedance per year. Preliminary data available in AQS for 2024 indicate that the San Joaquin Valley area continues to show concentrations below the level of the 1979 1-hour ozone NAAQS.⁶¹

⁵⁹ 81 FR 46608.

⁶⁰ SJVUAPCD calculated the design value for the 2020-2022 period as the expected number of days per calendar year with maximum hourly average concentrations above 0.124 ppm. The EPA evaluated the design value for the 2021-2023 period as the most recent certified air quality monitoring data available at the time of this proposed notice.

⁶¹ See “AQS 2024 Quicklook Report,” dated November 21, 2024, available in the docket for this proposed rule. The report includes preliminary data from all monitors in the San Joaquin Valley area from the first, second, and third quarter of the year (January through September, as available). Preliminary data available in AQS for 2024 indicate that the area continues to attain the 1979 1-hour ozone NAAQS.

Table 2—San Joaquin Valley Area 2020-2022 and 2021-2023 Design Values for the 1979 1-Hour Ozone NAAQS
[# of Expected Exceedances] ᵃ
AQS site ID | Site name | Expected exceedances by year: 2020 | Expected exceedances by year: 2021 | Expected exceedances by year: 2022 | Expected exceedances by year: 2023 | 2020-2022 design value (average expected exceedances) ᵇ | 2021-2023 design value (average expected exceedances) ᵇ
06-029-0007 | Edison | 2.0 | 0.0 | 1.0 | 0.0 | 1.0 | 0.3.
06-029-0008 | Maricopa | 0.0 | 0.0 | 0.0 | 0.0 | Invalid ᶜ | 0.0.
06-029-0014 | Bakersfield-California | 0.0 | 0.0 | 0.0 | 0.0 | 0.0 | 0.0.
06-029-0232 | Oildale | 0.0 | 0.0 | 0.0 | 0.0 | 0.0 | 0.0.
06-029-2012 | Bakersfield-Muni | 0.0 | 0.0 | 0.0 | 0.0 | 0.0 | 0.0.
06-029-5002 | Arvin-Di Giorgio | ᵈ 1.8 | 0.0 | 0.0 | 0.0 | Invalid ᶜ | 0.0.
06-029-6001 | Shafter | 0.0 | 0.0 | 0.0 | 0.0 | 0.0 | 0.0.
06-019-0007 | Fresno-Drummond | 0.0 | 1.0 | 0.0 | 0.0 | 0.3 | 0.3.
06-019-0011 | Fresno-Garland | 0.0 | 0.0 | 0.0 | 0.0 | 0.0 | 0.0.
06-019-0242 | Fresno-Sierra Sky Park | 0.0 | 0.0 | 0.0 | 0.0 | 0.0 | 0.0.
06-019-2009 | Tranquility | 0.0 | 0.0 | 0.0 | 0.0 | 0.0 | 0.0.
06-019-4001 | Parlier | 0.0 | 0.0 | 0.0 | 0.0 | 0.0 | 0.0.
06-019-5001 | Clovis-Villa | 2.0 | 0.0 | 0.0 | 0.0 | 0.7 | 0.0.
06-031-1004 | Hanford | 0.0 | 0.0 | 0.0 | ᵈ 0.0 | 0.0 | Invalid.ᶜ
06-039-0004 | Madera-Pump Yard | 0.0 | 0.0 | 0.0 | 0.0 | 0.0 | 0.0.
06-039-2010 | Madera-City | 0.0 | 0.0 | 0.0 | 0.0 | 0.0 | 0.0.
06-047-0003 | Merced-Coffee | 0.0 | 0.0 | 0.0 | 0.0 | 0.0 | 0.0.
06-099-0005 | Modesto-14th Street | 0.0 | 0.0 | 0.0 | 0.0 | 0.0 | 0.0.
06-099-0006 | Turlock | 0.0 | 0.0 | 0.0 | 0.0 | 0.0 | 0.0.
06-077-1003 | Stockton-University Park | 0.0 | 0.0 | 1.0 | 0.0 | 0.3 | 0.3.
06-077-3005 | Tracy-Airport | 0.0 | 0.0 | 0.0 | 0.0 | 0.0 | 0.0
06-107-2002 | Visalia-W. Ashland Ave | 1.0 | 0.0 | 0.0 | 0.0 | 0.3 | 0.0.
06-107-0009 | Sequoia-Ash Mountain | 1.0 | 0.0 | 0.0 | 0.0 | 0.3 | 0.0.
06-107-2010 | Porterville | 0.0 | 0.0 | 0.0 | 0.0 | 0.0 | 0.0.
ᵃ Source: AQS, 2020-2023 Quicklook Report, dated October 9, 2024.
ᵇ The EPA has identified calculation procedures or calculating the expected number of exceedances in 40 CFR 50 appendix H. The average number of exceedances for three consecutive years is generally based on summing the number of expected exceedances each year and dividing by three.
ᶜ The 2022 design values for Maricopa and Arvin-DiGiorgio are invalid and the 2023 design value for Hanford is invalid.
ᵈ The annual completeness criterion was not met in 2020 at Arvin-DiGiorgio and in 2023 at Hanford.

As indicated in Table 2, the 2022 design values for Maricopa and Arvin-DiGiorgio are invalid and the 2023 design value for Hanford is invalid. For the 2022 design value period, the Maricopa site did not meet the 3-year completeness criterion of 90%. Also, for the 2022 design value period, the Arvin-DiGiorgio site did not meet the 3-year completeness criterion of 90% and calendar year 2020 did not meet the annual completeness criterion of 75%. For the 2023 design value period, the Hanford site did not meet the 3-year completeness criterion of 90% and calendar year 2023 did not meet the annual completeness criterion of 75%. While these design values were invalid, these sites were not historically the highest design value sites in the San Joaquin Valley area.⁶² Thus, we find that invalid design values from the Maricopa, Arvin-DiGiorgio, and Hanford sites do not preclude an attainment determination for the San Joaquin Valley.

⁶² See memorandum dated December 23, 2024, from Jennifer Williams, Air and Radiation Division, EPA Region IX, Subject: “Invalid Design Values for the 1979 1-hour Ozone NAAQS in San Joaquin Valley, CA Nonattainment Area,” included in the docket for this action.

Consequently, based upon three years of complete, quality-assured, and certified data from 2021-2023, the EPA proposes to determine that the San Joaquin Valley area has attained and continues to attain the 1979 ozone NAAQS.

B. The Area Must Have a Fully Approved SIP Meeting the Requirements Applicable for the Purposes of Redesignation Under Section 110 and Part D of the CAA

Sections 107(d)(3)(E)(ii) and (v) of the CAA require the state to have met all applicable requirements under section 110 and part D and the EPA to have fully approved that applicable SIP under CAA section 110(k).

Section 110(a)(2) of the CAA contains the general requirements for a SIP. Section 110(a)(2) provides that the SIP must have been adopted by the state after reasonable public notice and hearing, and that, among other things, it must: (1) include enforceable emission limitations and other control measures, means or techniques necessary to meet the requirements of the CAA; (2) provide for establishment and operation of appropriate devices, methods, systems and procedures necessary to monitor ambient air quality; (3) provide for implementation of a source permit program to regulate the modification and construction of stationary sources within the areas covered by the plan; (4) include provisions for the implementation of part C prevention of significant deterioration (PSD) and part D new source review (NSR) permit programs; (5) include provisions for stationary source emission control measures, monitoring, and reporting; (6) include provisions for air quality modeling; and, (7) provide for public planning and emission control rule development.

Part D of the Clean Air Act establishes the plan requirements for nonattainment areas. Section 172(c) sets forth the basic requirements of air quality plans for states with nonattainment areas that are required to submit plans on a schedule pursuant to section 172(b). Subpart 2 of part D, which includes section 182 of the CAA, establishes specific requirements for ozone nonattainment areas depending on the areas' nonattainment classifications. The San Joaquin Valley area was classified as Extreme under the 1979 ozone NAAQS. Therefore, the area is subject to the subpart 1 requirements contained in section 172(c) and section 176. The area is also subject to the subpart 2 requirements contained in section 182(e) (Extreme nonattainment area requirements). A thorough discussion of the requirements contained in section 172(c) and 182 can be found in the General Preamble for Implementation of Title I.⁶³

⁶³ 57 FR 13498.

Since Congress passed the CAA amendments in 1990, the EPA has consistently held the position that not every requirement that an area is subject to is applicable for purposes of redesignation.⁶⁴ For example, some of the part D requirements, such as demonstrations of reasonable further progress, are designed to ensure that nonattainment areas continue to make progress toward attainment. The EPA has interpreted these requirements as not “applicable” for purposes of redesignation under CAA section 107(d)(3)(E)(ii) and (v) because areas that are applying for redesignation to attainment are by definition already attaining the standard. Similarly, the EPA has long held that CAA provisions that are not relevant to an area's designation and classification as a nonattainment area are not “applicable” for purposes of redesignation under CAA section 107(d)(3)(E)(ii) and (v). For this reason, SIP revisions that apply regardless of whether an area is designated nonattainment or attainment, such as good neighbor plans required under CAA section 110(a)(2)(D)(i)(I), have not been considered “applicable” for purposes of redesignation. Finally, some requirements may not be applicable in this action given that both of the NAAQS at issue in this notice were revoked for all purposes, and, post-revocation, the San Joaquin Valley area remained subject only to the anti-backsliding requirements identified by the EPA in regulation.⁶⁵

⁶⁴ See, e.g., Calcagni memo, 6.

⁶⁵ See 40 CFR 51.1100(o).

However, for the revoked ozone standard at issue here, over the past three decades the State has submitted numerous SIPs for the San Joaquin Valley area to implement the standard, improve air quality with respect to the standard, and to address anti-backsliding requirements for the standard. Therefore, even though some of the San Joaquin Valley area's SIP-approved elements address criteria that are not requirements “applicable” for purposes of redesignation under CAA section 107(d)(3)(E)(ii) and (v), such as CAA section 182(b) reasonable further progress, or address requirements that were not retained for anti-backsliding, such as section 182(a) emissions inventories, we provide a list of elements the State has adopted and the EPA has fully approved for the San Joaquin Valley area with respect to the revoked 1-hour ozone standard. These include: (1) emissions inventories, (2) a RACM demonstration, (3) an attainment demonstration, (4) a rate of progress demonstration, (5) contingency measures for failure to meet rate of progress milestones, (6) advanced technology or clean fuels for boilers, (7) VMT offset demonstration and transportation control measures,⁶⁶ (8) reasonably available control technology (RACT),⁶⁷ (9) both basic and enhanced vehicle inspection and maintenance programs,⁶⁸ (10) nonattainment new source review (NSR) programs with NSR offset requirements,⁶⁹ and (11) a CAA section 185 fee program.⁷⁰ Because the requirements for infrastructure SIPs in section 110(a)(2) were not part of the CAA until the 1990 amendments, SJVUAPCD has not submitted SIPs addressing section 110(a)(2) elements for the 1979 ozone NAAQS.⁷¹

⁶⁶ 81 FR 19492.

⁶⁷ We addressed the SIP requirements related to implementation of RACT for the 1-hour ozone standard in separate rulemakings. See, e.g.,77 FR 1417 (January 10, 2012) (final partial approval and partial disapproval of the San Joaquin Valley RACT SIP).

⁶⁸ 75 FR 38023 (July 1, 2010) and 40 CFR 52.241.

⁶⁹ 88 FR 43434 (July 10, 2023) and 79 FR 55637 (September 17, 2014).

⁷⁰ 77 FR 50021 (August 20, 2012).

⁷¹ Approval of the section 110(a)(2) infrastructure SIPs is not required for purposes of redesignation.

Therefore, we are proposing to find That the San Joaquin Valley area has met all requirements under CAA section 110 and part D and that the Plan satisfies CAA sections 107(d)(3)(E)(ii) and (v).

C. The Area Must Show That the Improvement in Air Quality Is Due to Permanent and Enforceable Emissions Reductions

To approve a request for redesignation to attainment, CAA section 107(d)(3)(E)(iii) requires the EPA to determine that the improvement in air quality is due to emission reductions that are permanent and enforceable and that the improvement results from the implementation of the applicable SIP, applicable Federal air pollution control regulations, and other permanent and enforceable regulations. Under this criterion, a state must be able to reasonably attribute the improvement in air quality to permanent and enforceable emission reductions. Attainment resulting from temporary reductions in emission rates (e.g., reduced production or shutdown due to temporary adverse economic conditions) or unusually favorable meteorology would not qualify as an air quality improvement due to permanent and enforceable emission reductions.⁷²

⁷² Calcagni memo, 4.

Table 3 shows a summary of current and historic NOX and VOC emissions in the San Joaquin Valley 1979 1-hour ozone area.

Table 3—Summary of Emissions for the San Joaquin Valley 1979 1-Hour Ozone Area
[tons per day (tpd), Average Summer Day]
Source type | 2013 VOC | 2020 VOC | 2013 NOX | 2020 NOX
Stationary | 81.61 | 83.61 | 41.06 | 23.14
Area-Wide | 147.59 | 157.91 | 4.46 | 7.37
On-Road | 44.68 | 26.21 | 144.2 | 61.28
Other Mobile | 62.3 | 49.32 | 107.61 | 89.5
Total | 336.18 | 317.05 | 297.33 | 181.29
Source: San Joaquin Valley Maintenance Plan, Appendix A, A-1, A-4.

VOC and NOX emissions are expected to continue to decrease in the next several decades, despite population increases, due to continued replacement of older vehicles and engines subject to California and Federal emission control requirements.

As explained in this document, the EPA finds that the State has demonstrated that the observed air quality improvements in the San Joaquin Valley area with respect to the 1979 1-hour ozone standard are due to enforceable emissions reductions though the implementation of state and District emission controls contained in the SIP and not due to favorable meteorology or temporary reductions in emission rates, such as temporary adverse economic conditions. Within the San Joaquin Valley area, District regulations and State mobile and area source measures have been the primary measures contributing to permanent and enforceable emissions reductions, leading to attainment of the NAAQS.⁷³

⁷³ See San Joaquin Valley Maintenance Plan, 13-24.

1. District's Adopted Regulations Achieving Permanent and Enforceable Emission Reductions

SJVUAPCD has adopted, implemented, and submitted for EPA approval stationary source rules that achieve NOX and VOC emissions reductions and have thus helped reduce ozone levels. Table 4 in this document summarizes the local air district rules adopted and the status of those rules in the California SIP.

Table 4—San Joaquin Valley Unified Air Pollution Control District Rules Adopted and Submitted or Approved Into the California State Implementation Plan
Rule No. | Rule | Date rule adopted/amended by the District | EPA approval date | Federal Register citation
4103 | Open Burning | 6/17/2021 | 6/16/2022 | 87 FR 36222.
4106 | Prescribed Burning and Hazard Reduction Burning | 6/21/2001 | 2/27/2002 | 67 FR 8894.
4306 | Boilers, Steam Generators, and Process Heaters Phase 3 | 12/17/2020 | Pending | N/A.
4307 | Boilers, Steam Generators, and Process Heaters 2.0 Metric Million British Thermal Unit (MMBtu)/hr to 5.0 MMBtu/hr | 4/21/2016 | 8/14/2017 | 82 FR 37817.
4308 | Boilers, Steam Generators, and Process Heaters 0.075 MMBtu/hr to less than 2.0 MMBtu/hr | 11/14/2013 | 2/12/2015 | 80 FR 7803.
4309 | Dryers, Dehydrators, and Ovens | 12/15/2005 | 5/30/2007 | 72 FR 29886.
4311 | Flares | 12/17/2020 | 12/28/2022 | 87 FR 79806.
4320 | Advanced Emission Reduction Options for Boilers, Steam Generators, and Process Heaters Greater than 5.0 MMBtu/hr | 12/17/2020 | Pending | N/A.
4352 | Solid Fuel Fired Boilers, Steam Generators and Process Heaters | 12/16/2021 | Pending | N/A.
4354 | Glass Melting Furnaces | 12/16/2021 | Pending | N/A.
4656 | Biosolids, Animal Manure, and Poultry Litter Operations | 3/15/2007 | 1/17/2012 | 77 FR 2228.
4566 | Organic Material Composting Operations | 8/18/2011 | 11/29/2012 | 77 FR 71129.
4570 | Confined Animal Facilities | 10/21/2010 | 1/17/2012 | 77 FR 2228.
4601 | Architectural Coatings | 4/16/2020 | 12/22/2022 | 87 FR 78544.
4603 | Surface Coating of Metal Parts and Products Plastic Parts and Products, and Pleasure Crafts | 9/17/2009 | 11/1/2011 | 76 FR 67369.
4604 | Can and Coil Coating Operations | 9/20/2007 | 1/19/2010 | 75 FR 2796.
4605 | Aerospace Assembly and Component Coating Operations | 6/16/2011 | 11/16/2011 | 76 FR 70886.
4606 | Wood Products and Flat Wood Paneling Products Coating Operations | 10/16/2008 | 10/15/2009 | 74 FR 52894.
4607 | Graphic Arts and Paper, Film, Foil, and Fabric Coatings | 12/18/2008 | 10/15/2009 | 74 FR 52894.
4612 | Motor Vehicle and Mobile Equipment Coating Operations | 10/21/2010 | 2/13/2012 | 77 FR 7536.
4621 | Gasoline Transfer into Stationary Storage Containers, Delivery Vessels, and Bulk Plants | 12/19/2013 | 2/10/2015 | 80 FR 7345.
4622 | Gasoline Transfer into Motor Vehicle Fuel Tanks | 12/19/2013 | 2/10/2015 | 80 FR 7345.
4624 | Transfer of Organic Liquid | 12/20/2007 | 10/15/2009 | 74 FR 52894.
4653 | Adhesives and Sealants | 9/16/2010 | 2/13/2012 | 77 FR 7536.
4661 | Organic Solvents | 9/20/2007 | 5/5/2010 | 75 FR 24406.
4662 | Organic Solvent Degreasing Operations | 9/20/2007 | 7/30/2009 | 74 FR 37948.
4663 | Organic Solvent Cleaning, Storage, and Disposal | 9/20/2007 | 7/30/2009 | 74 FR 37948.
4682 | Polystyrene, Polyethylene, and Polypropylene Products Manufacturing | 12/15/2011 | 9/20/2012 | 77 FR 58312.
4684 | Polyester Resin Operations | 8/18/2011 | 2/6/2012 | 77 FR 5709.
4692 | Commercial Charbroiling | 6/21/2018 | 9/14/2020 | 85 FR 56521.
4694 | Wine Fermentation and Storage Tanks | 12/15/2005 | 11/29/2012 | 77 FR 71109.
4695 | Brandy Aging and Wine Aging Operations | 9/17/2009 | 8/4/2011 | 76 FR 47076.
4702 | Internal Combustion Engines | 8/19/2021 | Pending | N/A.
4703 | Stationary Gas Turbines | 9/20/2007 | 10/21/2009 | 74 FR 53888.
4902 | Residential Water Heaters | 3/19/2009 | 5/5/2010 | 75 FR 24408.
4905 | Natural Gas-Fired, Fan-Type Residential Central Furnaces | 12/16/2021 | Pending | N/A.
9310 | School Bus Fleets | 9/21/2006 | 3/8/2010 | 75 FR 10420.
9410 | Employer-Based Trip Reduction | 12/17/2009 | 2/9/2016 | 81 FR 6761.
9510 | Indirect Source Review (ISR) | 12/21/2017 | 6/25/2021 | 86 FR 33542.
9610 | SIP Credit for Emission Reductions Generated Through Incentive Programs | 6/20/2013 | 4/9/2015 | 80 FR 19020.

2. California State Measures Achieving Permanent and Enforceable Emission Reductions

Source categories that CARB has primary responsibility for reducing emissions in California include most new and existing on- and off-road engines and vehicles, motor vehicle fuels, and consumer products. In addition, California has unique authority under CAA section 209 (subject to waiver by the EPA) to adopt and implement new emission standards for many categories of on-road vehicles and engines and new and in-use off-road vehicles and engines. California has been a leader in the development of some of the most stringent control measures nationwide for on-road and off-road mobile sources and the fuels that power them. These measures have helped reduce ozone levels in the San Joaquin Valley area and throughout the State.

The San Joaquin Valley Maintenance Plan provides a summary of recent measures adopted and implemented by the State.⁷⁴ According to this summary, from 2008 to the present, the State has taken more than 100 rulemaking actions that have achieved significant emission reductions needed for the State's nonattainment areas, including the San Joaquin Valley area. These measures include new emissions standards and in-use requirements and have resulted in significant reductions in VOC and NOX emissions from categories such as passenger cars, trucks, buses, motorcycles, locomotives, lawn and garden equipment, and consumer products.⁷⁵ The EPA has approved many of the State's measures to strengthen emissions controls for mobile sources.

⁷⁴ San Joaquin Valley Maintenance Plan, 15-24.

⁷⁵ Id.

3. Improvements Are Not Due to Favorable Meteorology or Temporary Emissions Reductions.

In the San Joaquin Valley Maintenance Plan, SJVUAPCD provided documentation that the improvement in air quality in the San Joaquin Valley area is not due to favorable meteorology or temporary emissions reductions from unfavorable economic conditions.⁷⁶

⁷⁶ San Joaquin Valley Maintenance Plan, 25-36.

SJVUAPCD showed that weather patterns in the last decade have not been unusually favorable. For example, looking at days equal to or over 95 degrees Fahrenheit (“high temperature days”) in each of the last seven years (2012 to 2019) as an indicator of conditions conducive to ozone formation, the area had an annual average of 82 high temperature days, while in the last three years (2020 to 2022) had an annual average of 89 high temperature days.⁷⁷

⁷⁷ Id. at 27.

SJVUAPCD provided documentation showing that the improvement in air quality leading to attainment for the 1979 ozone NAAQS in the San Joaquin Valley area is not due to unfavorable economic conditions. As an indicator of economic activity, this analysis presented information on gasoline and diesel sales and VMT in California from 2013 to 2022. Fuel sales are an indicator of economic activity and represent an indicator of emissions trends of both VOCs and NOX as well. The San Joaquin Valley area's emissions inventory is dominated by mobile sources.⁷⁸ Although gasoline sales and gasoline VMT decreased in 2020 due to the COVID-19 pandemic, we note that diesel sales and diesel VMT continued at a steady rate.

⁷⁸ See Table 3, and the San Joaquin Valley Maintenance Plan, Appendix A, Table A-1 and Table A-2.

The EPA concludes that the improvement in air quality in the San Joaquin Valley area is not due to favorable meteorology or temporary emissions reductions from unfavorable economic conditions.

4. Conclusion

Based on the analysis in Section III.C. of this document, the EPA concludes that permanent and enforceable emission reduction measures adopted and implemented by the State have been effective in reaching attainment of the 1-hour ozone standard and that the improvement in the San Joaquin Valley Area's air quality is due to permanent and enforceable emission reductions.

D. The Area Must Have a Fully Approved Maintenance Plan Under CAA Section 175A

Section 107(d)(3)(E)(iv) of the CAA requires that the Administrator has fully approved a maintenance plan for the area as meeting the requirements of section 175A of the Act. The maintenance plan is a SIP revision that provides for maintenance of the relevant NAAQS in the area for at least 10 years after redesignation. The Calcagni memo, dated September 4, 1992, provides additional guidance on the required content of a maintenance plan.

As with all maintenance plans, a maintenance plan for the 1979 ozone NAAQS should address the following five areas: an attainment emissions inventory, a maintenance demonstration, a commitment to maintain an air quality monitoring network, verification of continued attainment, and a contingency plan. The attainment emissions inventory identifies the emissions level in the area that is sufficient to attain the 1-hour ozone NAAQS, based on emissions over a three-year period when no monitored violations occurred. Provisions for continued operation of an appropriate air quality monitoring network are to be included in the maintenance plan. The state must show how it will track and verify the progress of the maintenance plan. Finally, the maintenance plan should include contingency provisions that will ensure prompt correction of any violation of the 1-hour ozone NAAQS.

Based on our review and evaluation of the San Joaquin Valley Maintenance Plan, we are proposing to approve the Plan as meeting the requirements of CAA section 175A.

1. Attainment Inventory

A maintenance plan for the 1979 ozone NAAQS should include an “attainment emissions inventory” of ozone precursors in the area to identify a level of emissions sufficient to attain the 1979 ozone NAAQS.⁷⁹ The attainment emissions inventory should be consistent with the EPA's most recent guidance on emissions inventories for nonattainment areas available at the time it was developed and should represent emissions during the timeframe associated with the ambient air quality monitoring data showing attainment of the NAAQS. The inventory must also be comprehensive, including emissions from stationary, area, nonroad mobile, and on-road mobile sources, and it must be based on actual “ozone season data” (i.e., summertime) emissions. The EPA has provided guidance for developing ozone emissions inventories in “Emissions Inventory Guidance for Implementation of Ozone and Particulate Matter National Ambient Air Quality Standards (NAAQS) and Regional Haze Regulations” (May 2017).

⁷⁹ See Calcagni memo, 8.

CARB and SJVUAPCD produced a projected attainment inventory for 2020 based on the actual summertime emissions from 2017 National Emissions Inventory (NEI) data, utilizing the California Emission Projection Analysis Model (CEPAM) 2022, San Joaquin Valley PM2.5 Nonattainment Area—Version 1.00. Although the attainment inventory is typically an inventory of actual emissions from the time period the area attained the standard, CARB and SJVUAPCD used projected emissions for 2020 ⁸⁰ rather than using the 2020 NEI due to atypical industrial activity during the COVID-19 pandemic in 2020 and large wildfires in the San Joaquin Valley area in 2020 and 2021. The EPA agrees with this rationale and agrees that the selection of a projected attainment inventory for 2020 based on the actual summertime emissions from 2017 is acceptable.

⁸⁰ The NEI is a comprehensive and detailed estimate of air emissions of criteria pollutants, criteria precursors, and hazardous air pollutants from air emissions sources. The NEI is released every three years based primarily upon data provided by State, local, and Tribal air agencies for sources in their jurisdictions and supplemented by data developed by the EPA.

The San Joaquin Valley Maintenance Plan projects 2020 summer day average emissions of 317.05 tpd of VOC and 181.29 tpd of NOX.

CARB's July 1, 2024 supplement to appendix A contains source-specific descriptions of emissions calculation procedures and sources of input data.⁸¹ Anthropogenic emissions are reported under stationary point and stationary aggregate, area-wide, on-road mobile, and off-road mobile source categories. Natural emissions from biogenic and geogenic sources and wildfires are reported separately. The stationary source inventory is composed of stationary point and stationary aggregated sources, which include large industrial point sources and smaller point sources, such as gasoline dispensing facilities and laundering.⁸² CARB and SJVUAPCD based the 2017 inventory estimates on actual emissions data reported by facilities to reflect a typical ozone season day at each emissions unit within the source facilities. Area-wide sources include categories where emissions take place over a wide geographic area, such as consumer products. CARB and SJVUAPCD's estimation methods for area-wide sources include source testing, direct measurement by continuous emissions monitoring systems, or engineering calculations.⁸³ On-road and off-road mobile source emissions are estimated using various modeling methods, which account for adopted regulations, technology types, fleet turnover, and seasonal conditions.⁸⁴ For on-road mobile sources, the EMFAC2021 model is the currently approved on-road emissions model in California,⁸⁵ and it estimates on-road emissions using travel activity and data on California's car and truck fleets. Off-road mobile sources include in-use off-road equipment, ocean-going vessels, recreational vehicles, and small off-road vehicles.⁸⁶ Off-road mobile sources were estimated using a suite of category-specific models or, where a model was not available, the OFFROAD2007 model.⁸⁷

⁸¹ Email dated July 1, 2024, from Sylvia Vanderspek, CARB, to Andrew Ledezma, EPA, Subject: “RE: Follow-up 6/25/24 Meeting—1979 1-Hour RRMP EI Appendix” (“Emissions Inventory Supplement”).

⁸² Emissions Inventory Supplement, B-12.

⁸³ Emissions Inventory Supplement, B-17.

⁸⁴ Emissions Inventory Supplement, B-5.

⁸⁵ 87 FR 68483 (November 15, 2022).

⁸⁶ Emissions Inventory Supplement, B-6.

⁸⁷ Id. For information regarding models used for specific source categories, see the Emissions Inventory Supplement, B-6 to B-12.

The EPA has reviewed the emissions inventory in the Plan and proposes to conclude that it is based on reasonable assumptions and methodologies and that it is comprehensive, current, accurate, and consistent with applicable CAA provisions and the Calcagni memo. Therefore, we are proposing that the inventory is acceptable for use in demonstrating maintenance of the 1979 ozone NAAQS.

2. Maintenance Demonstration

Section 175A(a) of the CAA requires that the maintenance plan “provide for the maintenance of the national primary ambient air quality standard for such air pollutant in the area concerned for at least 10 years after the redesignation.” A state may generally demonstrate maintenance of the NAAQS by either showing that future emissions of a pollutant or its precursors will not exceed the level of the attainment inventory or by conducting modeling that shows that the future mix of sources and emissions rates will not cause a violation of the NAAQS.⁸⁸ Assumptions concerning emissions rates in maintenance demonstrations should generally reflect permanent, enforceable measures.⁸⁹ Therefore, the analysis should assume that sources are operating at permitted levels (or historic peak levels), unless evidence is presented that such an assumption is unrealistic.⁹⁰

⁸⁸ Calcagni memo, 9.

⁸⁹ Id. at 10.

⁹⁰ Id. at 4. See also memorandum dated November 30, 1993, from Kent D. Berry, Acting Director, Air Quality Management Division, Subject: “Use of Actual Emissions in Maintenance Demonstrations for Ozone and Carbon Monoxide (CO) Nonattainment Areas.”

CARB and SJVUAPCD use 2017 NEI data, projected to 2020 in CEPAM, as the baseline to develop growth factors for stationary, area-wide, on-road, and other mobile sources. For stationary and area-wide sources, CARB and SJVUAPCD used growth profiles that incorporate historical trends to the base year or beyond. The projected emissions inventory reflects emissions reductions from point and area-wide sources subject to District rules and CARB regulations.⁹¹ For other mobile sources, projected emissions were estimated using a suite of category-specific models ⁹² or, where a model was not available, the OFFROAD2007 model.

⁹¹ For information regarding growth profiles for a specific stationary or area-wide source, see the Emissions Inventory Supplement, Table B-1.

⁹² For information regarding models used for specific source categories, see the Emissions Inventory Supplement, B-6 to B-12.

For mobile on-road sources, EMFAC2021 was used to project base year emissions inventory values with external adjustments to account for certain CARB on-road mobile regulations.⁹³ With regards to mobile on-road source and small off-road engines, CARB and SJVUAPCD provided initial emissions estimates in the San Joaquin Valley Maintenance Plan.⁹⁴ On August 22, 2024, CARB provided a supplement to the maintenance demonstration, providing updated estimates to mobile on-road and small off-road engine emissions projections.⁹⁵

⁹³ Emissions Inventory Supplement, B-5 to B-6, and Table B-3.

⁹⁴ San Joaquin Valley Maintenance Plan, 40 CFR and appendix A.

⁹⁵ Email dated August 22, 2024, from Sylvia Vanderspek, CARB, to Andrew Ledezma, EPA, Subject: “SIP Mobile Source Measure table,” (“Maintenance Plan Supplement”), included in the docket as SJV 1hr ozone MP.xlsx. In the Maintenance Plan Supplement, CARB revised the maintenance demonstration in order to remove certain projected emissions benefits. Specifically, the emissions benefits removed included CARB's Heavy-Duty Engine and Vehicle Omnibus, Advanced Clean Trucks, Innovative Clean Transit, Advanced Clean Cars II, Heavy Duty Inspection and Maintenance, and Small Off-Road Engines.

Table 5 compares the VOC and NOX emissions estimated for the San Joaquin Valley 1979 ozone area for 2020 with those projected for 2031 and 2036 by source category. The projected VOC and NOX emissions show that VOC and NOX emissions will remain below the attainment levels throughout the 10-year period following redesignation.

Table 5—San Joaquin Valley 2020 and Projected 2031 and 2036 VOC and NOX Emissions Total Daily Emissions
[tpd, average summer day]
Emissions source | 2020: NOX | 2020: VOC | 2031: NOX | 2031: VOC | 2036: NOX | 2036: VOC
Stationary | 23.14 | 83.61 | 16.63 | 86.87 | 16.23 | 91.61
Area-Wide | 7.37 | 157.91 | 3.98 | 167.84 | 3.77 | 170.19
On-Road | 61.28 | 26.21 | 36.62 | 15.32 | 37.08 | 13.59
Other Mobile | 89.50 | 49.32 | 57.83 | 33.34 | 49.39 | 30.29
Total | 181.29 | 317.05 | 115.07 | 303.36 | 106.47 | 305.68
Source: San Joaquin Valley Maintenance Plan, Appendix A, Table A-1, A-2, and Maintenance Plan Supplement.

Based on our review, we find that SJVUAPCD and CARB have sufficiently demonstrated that the San Joaquin Valley area will maintain the 1979 ozone standard throughout the period from redesignation through 2036. Therefore, we propose to find that the San Joaquin Valley Maintenance Plan adequately demonstrates maintenance of the 1979 ozone NAAQS through 2035.

3. Monitoring Network

Once an area has been redesignated, the state should continue to operate an appropriate air quality monitoring network, in accordance with 40 CFR part 58, to verify the attainment status of the area.⁹⁶ Data collected by the monitoring network are also needed to implement, if triggered, the contingency provisions of the maintenance plan.

⁹⁶ Calcagni memo, 11.

In the San Joaquin Valley Maintenance Plan, SJVUAPCD states that it will continue to operate its air quality monitoring network to verify continued attainment of the 1979 1-hour ozone NAAQS to meet the provisions of 40 CFR part 58.⁹⁷ SJVUAPCD details its state or local air monitoring stations (SLAMS) air quality network in the 2024 Air Monitoring Network Plan, which was the most recent information at the time SJVUAPCD adopted the Maintenance Plan.⁹⁸ SJVUAPCD currently operates ozone monitors at 14 sites, along with 9 sites operated by CARB, and 1 site operated by the NPS, within the San Joaquin Valley area.⁹⁹ We find SJVUAPCD's commitment for continued ambient ozone monitoring set forth in the San Joaquin Valley Maintenance Plan to be acceptable.

⁹⁷ San Joaquin Valley Maintenance Plan, 41. Although the San Joaquin Valley Maintenance Plan is not explicit in this regard, we understand the Plan to reflect SJVUAPCD's intention to continue operation of its monitoring network consistent with the EPA's monitoring requirements in 40 CFR part 58 (“Ambient Air Quality Surveillance”).

⁹⁸ The EPA's requirements for annual submission and review of monitoring network plans are described in 40 CFR 58.10.

⁹⁹ San Joaquin Valley Maintenance Plan, Table 24.

4. Verification of Continued Attainment

SJVUAPCD has the legal authority to implement and enforce the requirements of the San Joaquin Valley Maintenance Plan under the California Health and Safety Code sections 40150 to 40161. These provisions include authority to adopt, implement, and enforce any emissions control contingency measures determined to be necessary to correct 1979 ozone NAAQS violations. To verify continued attainment, SJVUAPCD committed to the continued operation of an ozone monitoring network that meets the EPA ambient air quality surveillance requirements.¹⁰⁰ In addition, SJVUAPCD committed to track the progress of the San Joaquin Valley's maintenance of the 1979 ozone NAAQS through continued review, development, and submission of periodic emissions inventories to the EPA.¹⁰¹ The EPA finds these methods sufficient for the purpose of verifying continued attainment.

¹⁰⁰ San Joaquin Valley Maintenance Plan, 45.

¹⁰¹ Id.

5. Contingency Provisions

Section 175A(d) of the CAA requires that maintenance plans contain contingency provisions, as the EPA deems necessary, to promptly correct any violations of the NAAQS that occur during the maintenance period. Such provisions must include a requirement that the state will implement all measures with respect to the control of the air pollutant concerned that were contained in the SIP prior to the maintenance period. These contingency provisions are distinguished from contingency measures required for nonattainment areas under CAA section 172(c)(9) in that they are not required to be fully adopted measures that will take effect without further action by the state for the maintenance plan to be approved. The contingency provisions of a maintenance plan are, however, an enforceable part of the SIP and should ensure that contingency measures are adopted expeditiously once the plan's contingency provisions are triggered by a specified event. Thus, a state should identify the specific indicators or triggers that will be used to determine when the contingency measures need to be implemented. Next, the maintenance plan should clearly identify the measures to be adopted, include a schedule and procedure for adoption and implementation of the measures, and contain a specific timeline for action by a state.

As required by section 175A of the CAA, SJVUAPCD's Plan includes a contingency plan to promptly correct any violation of the NAAQS that occurs after redesignation of the area. In addition, SJVUAPCD provided a clarification of the timeline for implementation of the contingency plan, if triggered.¹⁰² We refer to the contingency plan in the Plan and the clarification collectively as the “Contingency Plan.”

¹⁰² SJVUAPCD Maintenance Plan, 45-47 and email dated February 27, 2024, from Emily Kneeland, SJVUAPCD, to Karina O'Connor, EPA, Subject: “Clarification for San Joaquin Valley 1-hr Ozone Maintenance Plan and Redesignation Request.”

Under SJVUAPCD's Contingency Plan, the trigger for contingency provisions is a violation of the 1979 ozone NAAQS. SJVUAPCD commits to evaluate an exceedance contributing to a violation within 90 days of certification of the air monitoring data. If SJVUAPCD's evaluation concludes that the ozone exceedances leading to a violation of the 1-hour ozone standard were due to exceptional events, the District will follow the EPA's Exceptional Events Initial Notification ¹⁰³ procedures to initiate the process for determining what documentation should be prepared for EPA review and approval.¹⁰⁴ If the EPA's response to the Initial Notification indicates that the District should prepare a contingency provision trigger calculation exceedance exclusion request, the District will prepare this documentation within 18 months of the EPA's response. We note that should the District exclude an exceedance from the contingency trigger calculation using this process, it would not constitute the EPA's concurrence that the exceedance was caused by an exceptional event. The exceedance will therefore continue to be included in design value calculations for the San Joaquin Valley Planning Area unless CARB, following opportunity for public comment, submits a request for the EPA to concur on the exceedance as an exceptional event pursuant to 40 CFR 50.14 and the EPA reviews the submittal and formally concurs.

¹⁰³ See generally 81 FR 68216 (October 3, 2016) (describing the EPA's exceptional events rule).

¹⁰⁴ This exceedance exclusion request must contain detailed information for each exceedance that SJVUAPCD wishes to exclude. This detailed information will differ depending on the type of exceedance event. Information may include, but is not limited, to specific named fires and fire locations for wildfire influenced events, description of surface and meteorological conditions during the event, evidence of the impact on ozone, evidence of transport, and issuance of National Weather Service advisories or warnings.

If the EPA determines that the documentation submitted requesting exclusion of monitoring data identified in the Initial Notification indicates that the area's violation of the 1979 1-hour ozone NAAQS was due to circumstances not influenced by exceptional events, the Contingency Plan will be triggered. The District's Contingency Plan states that, within 18 months of the EPA's determination, the District and CARB commit to evaluating whether the exceedance can be addressed through existing District and CARB rules and regulations and, if necessary, evaluating and adopting amendments to rules to achieve the emission reductions necessary to meet the NAAQS as technologically and economically feasible.

The Contingency Plan identifies a list of District and CARB rules that SJVUAPCD may evaluate for amendment to address the NAAQS violation. These rules include District Rule 4306/4320, “Boiler, Steam Generators, and Process Heaters > 5 MMBtu/hr;” District Rule 4309, “Dryers, Dehydrators, and Ovens;” District Rule 4311, “Flares;” District Rule 4902, “Residential Water Heaters;” and CARB Measures from the 2022 State SIP Strategy such as the Advanced Clean Fleets Regulation, Clean Miles Standard, Spark-Ignition Marine Engine Standards, and In-Use Locomotive Regulation, among others. SJVUAPCD states the identification of specific detailed measures is not practical because implementation of potential contingency measures would not be expected to take place until well into the future, and the most appropriate contingency measures at the time of implementation of the Contingency Plan may be significantly different from any possible contingency measures that could be identified now due to changes in technological, economic, and other factors in the future.

Upon our review of the Contingency Plan, we find that the Plan's commitment to determine if exceedances are due to exceptional events is appropriate for the revoked 1979 ozone standard of 0.12 ppm averaged over a 1-hour period. We note that the design values for the 2021 to 2023 time period attain the 1979 ozone NAAQS. Importantly, in proposing to approve the Plan as adequate to assure that potential future violations of the 1979 ozone NAAQS will be promptly corrected, we find that the continued implementation of subsequent, more stringent ozone NAAQS (specifically, the 1997 standard of 0.08 ppm averaged over an 8-hour period, the 2008 standard of 0.075 ppm averaged over an 8-hour period, and the 2015 standard of 0.070 ppm averaged over an 8-hour period) obligate CARB and the District to regulate stationary and mobile sources beyond what is necessary to attain and maintain the 1979 ozone NAAQS. In addition, monitoring ozone concentrations for the more stringent NAAQS to assess progress with attainment and steps necessary for attainment of those more stringent NAAQS will effectively signal whether there is any need for measures for the 1979 ozone NAAQS, likely far in advance of any violations of such NAAQS. We also find that the Contingency Plan contains a triggering mechanism to determine when contingency provisions are needed that is appropriate for the revoked 1-hour ozone standard. Different triggering mechanisms and timelines may be more appropriate for other NAAQS.

The EPA finds that the Plan's list of rules to be evaluated for amendment as contingency measures is sufficient for this Plan because the 1979 1-hour ozone standard is revoked. Additionally, SJVUAPCD and CARB will be adopting measures that involve further reductions for mobile and stationary sources for the ongoing implementation of the 1997,¹⁰⁵ 2008,¹⁰⁶ and 2015 ¹⁰⁷ 8-hour ozone NAAQS that would be potential contingency measures for the 1-hour ozone standard. Due to these reasons, the EPA finds the Contingency Plan sufficient; however, the EPA disagrees with SJVUAPCD's rationale that future changes in economic, technological, and other factors is an adequate reason to omit specific contingency measures.

¹⁰⁵ 77 FR 12652 (March 1, 2012), 81 FR 19492.

¹⁰⁶ 84 FR 3302 (February 12, 2019). On October 3, 2022, the EPA took final action to withdraw a portion of the 2019 final action conditionally approving the contingency measure requirements for the 2008 ozone NAAQS and took action to partially approve and partially disapprove the SIP submission. 87 FR 59688.

¹⁰⁷ On February 23, 2023, CARB submitted the Extreme area attainment plan for the 2015 ozone NAAQS for the San Joaquin Valley. This attainment plan can be found at: https://ww2.valleyair.org/media/q55posm0/0000-2022-plan-for-the-2015-8-hour-ozone-standard.pdf.

The Contingency Plan in the San Joaquin Valley Maintenance Plan contains tracking and triggering mechanisms to determine when contingency provisions are needed, a description of the process of recommending and implementing contingency measures, specific timelines for action, and contingency provisions. The EPA is also considering the adequacy of the Plan in the context of maintenance of the revoked 1979 ozone NAAQS for an area that continues to be subject to three more stringent ozone standards. Thus, we propose to conclude that the Contingency Plan of the San Joaquin Valley Maintenance Plan is adequate to ensure prompt correction of a violation of the 1979 1-hour ozone standard and therefore complies with section 175A(d) of the Act and satisfies section 107(d)(3)(E)(iv) of the Act.

IV. Proposed Action and Request for Public Comment

Under CAA section 110(k)(3), and for the reasons presented in this document, the EPA is proposing to find that the San Joaquin Valley Maintenance Plan submitted by SJVUAPCD on July 21, 2023, as a revision to the California SIP meets all five criteria in CAA section 107(d)(3)(E) for the 1-hour ozone NAAQS. In doing so, we are proposing to approve the maintenance demonstration and contingency provision, among other elements, as meeting all of the applicable requirements in CAA section 175A.

In addition, we are proposing to terminate all anti-backsliding obligations for the San Joaquin Valley area for the 1-hour ozone NAAQS. We are doing so based on our conclusion that the State has met all the criteria for redesignation under CAA section 107(d)(3)(E). Specifically, we propose to make the following findings:

• The San Joaquin Valley area has attained the 1979 ozone NAAQS based on the most recent three-year period (2021-2023) of quality-assured, certified, and complete ozone data;

• The applicable portions of the California SIP are fully approved;

• The improvement in the San Joaquin Valley area ambient air quality is due to permanent and enforceable reductions in precursor ozone emissions;

• If this action is finalized, the EPA will have fully approved the state's maintenance plan as meeting the requirements of CAA section 175A; and

• California met all requirements applicable to the San Joaquin Valley area with respect to section 110 and part D of the CAA.

We are soliciting comments on these proposed actions. We will accept comments from the public for 30 days following publication of this proposal in the Federal Register and will consider any relevant comments before taking final action.

V. Statutory and Executive Order Review

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this proposed action merely proposes to approve state law as meeting Federal requirements and does not impose additional requirements beyond those imposed by state law. For that reason, this proposed action:

• Is not a significant regulatory action subject to review by the Office of Management and Budget under Executive Order 12866 (58 FR 51735, October 4, 1993);

• Is not subject to Executive Order 14192 (90 FR 9065, February 6, 2025) because SIP actions are exempt from review under Executive Order 12866:

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it proposes to approve a state program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

List of Subjects

40 CFR Part 52

Environmental protection, Air pollution control, Incorporation by reference, Nitrogen dioxide, Reporting and recordkeeping requirements, Volatile organic compounds.

40 CFR Part 81

Environmental protection, Air pollution control.

(Authority: 42 U.S.C. 7401 et seq.)

Dated: June 2, 2025.
Joshua F.W. Cook,
Regional Administrator, Region IX.

[FR Doc. 2025-11413 Filed 6-20-25; 8:45 am]

BILLING CODE 6560-50-P